DEPARTMENT OF HEALTH AND HUMAN SERVICES

Substance Abuse and Mental Health Services Administration

Notice of Meeting

Pursuant to Public Law 92-463, notice is hereby given of the combined meeting on February 25, 2016, of the Substance Abuse and Mental Health Services Administration's (SAMHSA) four National Advisory Councils (the SAMHSA National Advisory Council [NAC], the Center for Mental Health Services NAC, the Center for Substance Abuse Prevention NAC, the Center for Substance Abuse Treatment NAC) and the two SAMHSA Advisory Committees (Advisory Committee for Women's Services [ACWS] and the Tribal Technical Advisory Committee [TTAC]).

SAMHSA's National Advisory Councils were established to advise the Secretary, Department of Health and Human Services (HHS); the Administrator, SAMHSA; and SAMHSA's Center Directors concerning matters relating to the activities carried out by and through the Centers and the policies respecting such activities.

Under Section 501 of the Public Health Service Act, the ACWS is statutorily mandated to advise the SAMHSA Administrator and the Associate Administrator for Women's Services on appropriate activities to be undertaken by SAMHSA and its Centers with respect to women's substance abuse and mental health services.

Pursuant to Presidential Executive Order No. 13175, November 6, 2000, and the Presidential Memorandum of September 23, 2004, SAMHSA established the TTAC for working with Federally-recognized Tribes to enhance the government-to-government relationship, honor Federal trust responsibilities and obligations to Tribes and American Indian and Alaska Natives. The SAMHSA TTAC serves as an advisory body to SAMHSA.

The February 25, 2016 combined meeting will include a report from the Administrator on SAMHSA's priorities and updates; a presentation about the Heroin Taskforce by the CSAP Director; several breakout groups on the following topics: Protecting Access to Medicare Act Section 223; Early Serious Mental Illness; Mental Health Parity and Addiction Equity; HHS and SAMHSA's Initiatives on Opioids; and Social Determinants of Health; followed by a presentation on the Tribal Behavioral Health Agenda by the Director of the Office of Tribal Affairs and Policy (OTAP).

The meeting is open to the public and will be held at the Bethesda North Marriot and Conference Center, 5701 Marinelli Road, Rockville, MD 20852. Attendance by the public will be limited to space available. Interested persons may present data, information, or views orally or in writing, on issues pending before the Council. Written submissions should be forwarded to the contact person on or before February 15, 2016. Oral presentations from the public will be scheduled at the conclusion of the meeting. Individuals interested in making oral presentations are encouraged to notify the contact on or before February 15, 2016. Five minutes will be allotted for each presentation.

The meeting may be accessed via telephone and web conferencing will be available. To attend on site; obtain the call-in number, access code, and/or web access link; submit written or brief oral comments; or request special accommodations for persons with disabilities, please register on-line at: http://nac.samhsa.gov/Registration/meetingsRegistration.aspx, or communicate with SAMHSA's Committee Management Officer, CDR Carlos Castillo (see contact information below).

Meeting information and a roster of Council members may be obtained either by accessing the SAMHSA Council's Web site at http://www.samhsa.gov/about-us/advisory-councils/ or by contacting CDR Castillo. Substantive program information may be obtained after the meeting by accessing the SAMHSA Council's Web site, http://nac.samhsa.gov/, or by contacting CDR Castillo.

Council Names: Substance Abuse and Mental Health Services, Administration National Advisory Council, Center for Mental Health Services National Advisory Council, Center for Substance Abuse Prevention National Advisory Council, Center for Substance Abuse Treatment National Advisory Council, Advisory Committee for Women's Services, Tribal Technical Advisory Committee.

Date/Time/Type: February 25, 2016, 8:30 a.m. to 5:00 p.m. EDT, Open.

Place: Bethesda North Marriott and Conference Center, 5701 Marinelli Road, Rockville, Maryland 20852.

Contact: CDR Carlos Castillo, Committee Management Officer and Designated Federal Official, SAMHSA National Advisory Council, Room 18E77A, 5600 Fishers Lane, Rockville, Maryland 20857 (mail). Telephone: (240) 276-2787. Email: carlos.castillo@samhsa.hhs.gov.

Summer King,
Statistician, SAMHSA.

[FR Doc. 2016-02773 Filed 2-10-16; 8:45 am]

BILLING CODE 4162-20-P